DEPARTMENT OF HEALTH AND HUMAN SERVICES

Centers for Disease Control and Prevention

[30Day-08-08BA]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Active Bacterial Core Surveillance (ABCs) Projects—New—National Center for Immunization and Respiratory Diseases (NCIRD), Centers for Disease Control and Prevention (CDC).

Background and Brief Description

Active Bacterial Core surveillance (ABCs) is a core component of CDC's Emerging Infections Program Network (EIP), a collaboration between CDC, state health departments, and universities. ABCs is an active laboratory- and population-based surveillance system for six invasive bacterial pathogens of public health importance (group A and group B streptococcus, Haemophilus influenzae, Neisseria meningitidis, Streptococcus pneumoniae, and methicillin-resistant Staphylococcus aureus). Case finding is active and laboratory-based. Following the identification of cases, a standard case report is completed on all identified cases through medical record review. Data collection is performed differently in each surveillance area, for example, through the cooperation of on-site hospital personnel (e.g., Infection Control Practitioners or Medical Records personnel); through medical record review or clinician interview by county health department personnel; or through medical record review by surveillance personnel. Case report forms are entered into a secure computerized database and maintained at each surveillance site. The computerized databases, with personal identifiers removed, are transmitted to CDC by the fifth of every month.

The data collection has important practical utility to the government as well as EIP populations and the American population as a whole. ABCs data is critical for documenting disease burden and describing the epidemiology of invasive bacterial disease, tracking trends in antimicrobial resistance, contributing to the development and evaluation of new vaccines, developing and assessing public health prevention measures, and improving overall public health practice. Current information on disease incidence is needed to study present and emerging disease problems. The ABCs surveillance system provides data for those engaged in research or medical practice, health education officials, and manufacturers of pharmaceutical products which may lead to effective prevention strategies and enhanced interventions.

Respondents for each of the data collection forms are state health departments (California, Colorado, Connecticut, Georgia, Maryland, Minnesota, New Mexico, New York, Oregon and Tennessee) who are recipients of funding through the EIP cooperative agreement. The number of responses is dependent on the number of cases that are identified. Number of “responses” for all case report forms must be estimated not knowing before hand how many cases will occur.

There are no costs to respondents other than their time. The total estimated annualized burden is 4918 hours.

Estimated Annualized Burden Hours
Form name | Type of respondent | Number of respondents | Number of responses per respondent | Average burden per response (in hours)
ABCs Case Report Form | State Health Department | 10 | 809 | 20/60
Invasive Methicillin-resistant Staphylococcus aureus ABCs Case Report Form | State Health Department | 10 | 609 | 20/60
ABCs Invasive Pneumococcal Disease in Children Case Report Form | State Health Department | 10 | 41 | 10/60
Neonatal Group B Streptococcal Disease Prevention Tracking Form | State Health Department | 10 | 37 | 20/60

Dated: August 5, 2008.
Maryam I. Daneshvar,
Acting Reports Clearance Officer, Centers for Disease Control and Prevention.

[FR Doc. E8-18820 Filed 8-13-08; 8:45 am]

BILLING CODE 4163-18-P